DEPARTMENT OF COMMERCE

International Trade Administration

[A-533-879]

Polytetrafluoroethylene Resin From India: Final Affirmative Determination of Sales at Less Than Fair Value

AGENCY: Enforcement and Compliance, International Trade Administration, Department of Commerce.

SUMMARY: The Department of Commerce (Commerce) determines that imports of polytetrafluoroethylene (PTFE) resin from India is being, or is likely to be, sold in the United States at less than fair value (LTFV). The final dumping margins of sales at LTFV are listed in the “Final Determination” section of this notice.

DATES: Applicable September 26, 2018.

FOR FURTHER INFORMATION CONTACT: Nicholas Czajkowski, AD/CVD Operations, Office I, Enforcement and Compliance, International Trade Administration, U.S. Department of Commerce, 1401 Constitution Avenue NW, Washington, DC 20230; telephone: (202) 482-1395.

SUPPLEMENTARY INFORMATION:

Background

Commerce published the Preliminary Determination in the LTFV investigation of PTFE resin from India on May 7, 2018.¹ For a complete description of the events that followed the Preliminary Determination, see the Issues and Decision Memorandum.²

¹ See Polytetrafluoroethylene Resin from India: Preliminary Affirmative Determination of Sales at Less Than Fair Value, Postponement of Final Determination, and Extension of Provisional Measures, 83 FR 20035 (May 7, 2018) and accompanying Preliminary Decision Memorandum (Preliminary Decision Memorandum) (collectively, Preliminary Determination).

² See Memorandum, “Issues and Decision Memorandum for the Final Affirmative Determination in the Less than Fair Value Investigation of Polytetrafluoroethylene Resin from India,” dated concurrently with, and hereby adopted by, this notice (Issues and Decision Memorandum).

Period of Investigation

The period of investigation is July 1, 2016, through June 30, 2017.

Scope of the Investigation

The product covered by this investigation is PTFE resin from India. For a full description of the scope of this investigation, see the “Scope of the Investigation” in Appendix I of this notice.

Analysis of Comments Received

All issues raised in the case and rebuttal briefs that were submitted by parties in this investigation are addressed in the Issues and Decision Memorandum. A list of issues raised is attached to this notice at Appendix II. The Issues and Decision Memorandum is a public document and is made available to the public via Enforcement and Compliance's Antidumping and Countervailing Duty Centralized Electronic Service System (ACCESS). ACCESS is available to registered users at http://access.trade.gov and to all parties in Commerce's Central Records Unit, Room B8024 of the main Department of Commerce building. In addition, a complete version of the Issues and Decision Memorandum can be accessed directly on the internet at http://enforcement.trade.gov/frn/.

Verification

As provided in section 782(i) of the Act, in May and June 2018, we conducted verification of the information reported by the mandatory respondent Gujarat Fluorochemicals Ltd. (GFL) for use in our final determination. We used standard verification procedures, including an examination of relevant accounting and production records and original source documents provided by the respondents.

Changes Since the Preliminary Determination and Use of Adverse Facts Available

Based on our analysis of the comments received and our findings at verification, we made certain changes to the margin calculations for GFL, including the application of facts available with an adverse inference pursuant to section 776(b) of the Act.³ For a discussion of these changes, see the Issues and Decision Memorandum.

³ See the “Discussion of the Issues” section of the Issues and Decision Memorandum; see also Memorandum, “Final Determination Analysis Memorandum for Gujarat Fluorochemicals Ltd.,” (GFL Final Analysis Memorandum) dated concurrently with this notice.

All-Others Rate

Section 735(c)(5)(A) of the Act provides that in the final determination Commerce shall determine an estimated weighted-average dumping margin for all exporters or producers not individually examined. This rate shall be an amount equal to the weighted average of the estimated weighted-average dumping margins established for exporters or producers individually examined, excluding any rates that are zero, de minimis, or determined entirely under section 776 of the Act. In this investigation, we determined a calculated rate for GFL, the one mandatory respondent in this investigation, that is not zero, de minimis, or based entirely on facts otherwise available. Consequently, the rate calculated for this respondent is also assigned as the rate for all-other producers and exporters in this investigation.

Final Determination

Commerce determines that the following weighted-average dumping margins exist:

Exporter or producer | Estimated weighted- average dumping margin (percent)
Gujarat Fluorochemicals Ltd.⁴ | 22.78
All-Others | 22.78

Disclosure

We intend to disclose the calculations performed to parties in this proceeding within five days after public announcement of the final determination or, if there is no public announcement, within five days of the date of publication of the notice of final determination in the Federal Register, in accordance with 19 CFR 351.224(b).

⁴ See GFL Final Analysis Memorandum.

Continuation of Suspension of Liquidation

In accordance with section 735(c)(1)(B) of the Act, Commerce will instruct U.S. Customs and Border Protection (CBP) to continue to suspend liquidation of all appropriate entries of PTFE resin from India as described in Appendix I of this notice, which were entered, or withdrawn from warehouse, for consumption on or after May 7, 2018, the date of publication of the Preliminary Determination of this investigation in the Federal Register.

Pursuant to section 735(c)(1)(B) of the Act and 19 CFR 351.210(d), Commerce will instruct CBP to require a cash deposit as follows: (1) The cash deposit rate for the respondent listed above under the Final Determination section will be equal to its estimated weighted-average dumping margin; (2) if the exporter is not a respondent identified above, but the producer is, then the cash deposit rate will be equal to the respondent-specific estimated weighted-average dumping margin established for that producer of the subject merchandise; (3) for all other producers or exporters of PTFE resin to the United States, the cash deposit rate will be equal to the all-others rate. These suspension of liquidation instructions will remain in effect until further notice.

International Trade Commission Notification

In accordance with section 735(d) of the Act, Commerce will notify the International Trade Commission (ITC) of its final determination. Because the final determination in this proceeding is affirmative, in accordance with section 735(b)(2)(B) of the Act, the ITC will make its final determination as to whether the domestic industry in the United States is materially injured, or threatened with material injury, by reason of imports of PTFE resin from India no later than 45 days after Commerce's final determination. If the ITC determines that material injury or threat of material injury does not exist, the proceeding will be terminated, and all securities posted will be refunded or canceled. If the ITC determines that such injury does exist, Commerce will issue an antidumping duty order directing CBP to assess, upon further instruction by Commerce, antidumping duties on appropriate imports of the subject merchandise entered, or withdrawn from warehouse, for consumption on or after the effective date of the suspension of liquidation.

Notification Regarding Administrative Protective Order

This notice will serve as a reminder to the parties subject to administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

This determination is issued and published in accordance with sections 735(d) and 777(i)(1) of the Act and 19 CFR 351.210(c).

Dated: September 19, 2018.
Christian Marsh,
Deputy Assistant Secretary for Enforcement and Compliance.

Appendix I

Scope of the Investigation

The product covered by this investigation is polytetrafluoroethylene (PTFE) resin, including but not limited to granular, dispersion, or coagulated dispersion (also known as fine powder). PTFE is covered by the scope of this investigation whether filled or unfilled, whether or not modified, and whether or not containing co-polymer additives, pigments, or other materials. Also included is PTFE wet raw polymer. The chemical formula for PTFE is C2F4, and the Chemical Abstracts Service Registry number is 9002-84-0.

PTFE further processed into micropowder, having particle size typically ranging from 1 to 25 microns, and a melt-flow rate no less than 0.1 gram/10 minutes, is excluded from the scope of this investigation.

PTFE is classified in the Harmonized Tariff Schedule of the United States (HTSUS) under subheadings 3904.61.0010 and 3904.61.0090. Subject merchandise may also be classified under HTSUS subheading 3904.69.5000. Although the HTSUS subheadings and CAS Number are provided for convenience and Customs purposes, the written description of the scope is dispositive.

Appendix II

List of Topics Discussed in the Issues and Decision Memorandum

I. Summary

II. Background

III. Scope Comments

IV. Changes Since the Preliminary Determination

V. Use of Adverse Facts Available

VI. Discussion of the Issues

Comment 1: U.S. Sales of Waste and Fines

Comment 2: U.S. Warehousing Expenses

Comment 3: CEP Offset

Comment 4: Sales and Costs Minor Corrections

Comment 5: Cost Adjustments

Comment 6: Low-Pressure Steam

Comment 7: Power

Comment 8: Hydrogen Gas

Comment 9: Chlorine

Comment 10: Calcium Chloride

Comment 11: Exclusion of Packing Costs and Byproduct Revenues from the COGS Denominator

Comment 12: Loss on Sale of Raw Material

Comment 13: Certain Corrections to GFL's Further Manufacturing Costs Based on Verification Findings

Comment 14: Certain Corrections to Commerce's Cost Verification Report

VII. Recommendation

[FR Doc. 2018-20847 Filed 9-25-18; 8:45 am]

BILLING CODE 3510-DS-P